SMALL BUSINESS ADMINISTRATION

[Declaration of Disaster #3317; Amendment #4]

State of Texas

In accordance with a notice received from the Federal Emergency Management Agency, dated January 30, 2001, the above-numbered Declaration is hereby amended to include Titus County as a disaster area due to damages caused by a severe winter ice storm beginning on December 12, 2000 and continuing through January 15, 2001.

In addition, applications for economic injury loans from small businesses located in Camp County, Texas may be filed until the specified date at the previously designated location.

Any counties contiguous to the above named primary county and not listed herein have been previously declared.

All other information remains the same, i.e., the deadline for filing applications for physical damage is March 9, 2001 and for economic injury the deadline is October 9, 2001.

(Catalog of Federal Domestic Assistance Program Nos. 59002 and 59008)

Dated: February 1, 2001.
Herbert L. Mitchell,
Associate Administrator for Disaster Assistance.

[FR Doc. 01-3402 Filed 2-8-01; 8:45 am]

BILLING CODE 8025-01-P